NUCLEAR REGULATORY COMMISSION

Advisory Committee on Reactor Safeguards; Meeting Notice

In accordance with the purposes of Sections 29 and 182b. of the Atomic Energy Act (42 U.S.C. 2039, 2232b), the Advisory Committee on Reactor Safeguards (ACRS) will hold a meeting on October 4-6, 2006, 11545 Rockville Pike, Rockville, Maryland. The date of this meeting was previously published in the Federal Register on Tuesday, November 22, 2005 (70 FR 70638).

Wednesday, October 4, 2006, Conference Room T-2B3, Two White Flint North, Rockville, Maryland

8:30 a.m.-8:35 a.m.: Opening Remarks by the ACRS Chairman (Open)—The ACRS Chairman will make opening remarks regarding the conduct of the meeting.

8:35 a.m.-9:30 a.m.: Draft Final Revision 3 to Regulatory Guide 1.7, “Control of Combustible Gas Concentrations in Containment” (Open)-The Committee will hear presentations by and hold discussions with representatives of the NRC staff regarding draft final revision 3 to Regulatory Guide 1.7, which provides guidance for implementing the risk-informed 10 CFR 50.44, “Combustible Gas Control for Nuclear Power Reactors.”

9:30 a.m.-11:45 a.m.: Proposed Updates to Regulatory Guides and Standard Review Plan (SRP) Sections in Support of New Reactor Licensing (Open)—The Committee will hear presentations by and hold discussions with representatives of the NRC staff regarding proposed updates to Regulatory Guides and SRP Sections that are being made in support of new reactor licensing, criteria used by the staff in selecting Regulatory Guides and SRP Sections applicable to future plant licensing, and staff's recommendations that the ACRS not review certain Regulatory Guides and SRP Sections along with the reasons therefor.

12:45 p.m.-2:15 p.m.: Master Integrated Plan for New Reactor Licensing Activities (Open)—The Committee will hear presentations by and hold discussions with representatives of the NRC staff regarding the development of the Master Integrated Plan for new reactor licensing activities.

2:30 p.m.-4 p.m.: Draft Report on the Quality Assessment of Selected NRC Research Projects (Open)—The Committee will discuss the draft ACRS report on the quality assessment of the NRC research projects on Containment Capacity Study at the Sandia National Laboratories and on Melt Coolability and Concrete Interaction Study at the Argonne National Laboratory.

4:15 p.m.-4:30 p.m.: Subcommittee Report (Open)—Report by and discussions with the Chairman of the ACRS Subcommittee on Plant License Renewal regarding interim review of the Oyster Creek license renewal application that was discussed at the October 3, 2006 Subcommittee meeting.

4:30 p.m.-6:30 p.m.: Preparation of ACRS Reports (Open)—The Committee will discuss proposed ACRS reports on matters considered during this meeting.

Thursday, October 5, 2006, Conference Room T-2B3, Two White Flint North, Rockville, Maryland

8:30 a.m.-8:35 a.m.: Opening Remarks by the ACRS Chairman (Open)—The ACRS Chairman will make opening remarks regarding the conduct of the meeting.

8:35 a.m.-10:15 a.m.: Proposed Revision 1 to Regulatory Guide 1.200, “An Approach for Determining the Technical Adequacy of Probabilistic Risk Assessment Results for Risk-Informed Activities” (Open)—The Committee will hear presentations by and hold discussions with representatives of the NRC staff regarding proposed Revision 1 to Regulatory Guide 1.200, which incorporates the lessons learned from the trial use of this Guide.

10:30 a.m.-12 Noon: Verification and Validation of Selected Fire Models (Open)—The Committee will hear presentations by and hold discussions with representatives of the NRC staff, Electric Power Research Institute, and National Institute of Standards and Technology regarding the draft final NUREG document, “Verification and Validation of Selected Fire Models for Nuclear Power Plant Applications.”

1 p.m.-2 p.m.: Preparation for Meeting with the NRC Commissioners (Open)—The Committee will discuss the following topics scheduled for discussion during the ACRS meeting with the NRC Commissioners between 2:30 and 4:30 p.m. on Friday, October 20, 2006:

• PWR Sump Performance.

• Safety Research Program Report.

• Lessons Learned from the Review of Early Site Permit Applications.

• Future Plant Design Activities and Coordination with the NRC staff on the Master Integrated Schedule [including 10 CFR part 52 Rulemaking].

2 p.m.-2:45 p.m.: Future ACRS Activities/Report of the Planning and Procedures Subcommittee (Open)—The Committee will discuss the recommendations of the Planning and Procedures Subcommittee regarding items proposed for consideration by the full Committee during future meetings. Also, it will hear a report of the Planning and Procedures Subcommittee on matters related to the conduct of ACRS business, including anticipated workload and member assignments.

2:45 p.m.-3 p.m.: Reconciliation of ACRS Comments and Recommendations (Open)—The Committee will discuss the responses from the NRC Executive Director for Operations to comments and recommendations included in recent ACRS reports and letters.

3:15 p.m.-7 p.m.: Preparation of ACRS Reports (Open)—The Committee will discuss proposed ACRS reports.

Friday, October 6, 2006, Conference Room T-2B3, Two White Flint North, Rockville, Maryland

8:30 a.m.-12:30 p.m.: Preparation of ACRS Reports (Open)—The Committee will continue discussion of proposed ACRS reports.

12:30 p.m.-1 p.m.: Miscellaneous (Open)—The Committee will discuss matters related to the conduct of Committee activities and matters and specific issues that were not completed during previous meetings, as time and availability of information permit.

Procedures for the conduct of and participation in ACRS meetings were published in the Federal Register on September 29, 2005 (70 FR 56936). In accordance with those procedures, oral or written views may be presented by members of the public, including representatives of the nuclear industry. Electronic recordings will be permitted only during the open portions of the meeting. Persons desiring to make oral statements should notify the Cognizant ACRS staff named below five days before the meeting, if possible, so that appropriate arrangements can be made to allow necessary time during the meeting for such statements. Use of still, motion picture, and television cameras during the meeting may be limited to selected portions of the meeting as determined by the Chairman. Information regarding the time to be set aside for this purpose may be obtained by contacting the Cognizant ACRS staff prior to the meeting. In view of the possibility that the schedule for ACRS meetings may be adjusted by the Chairman as necessary to facilitate the conduct of the meeting, persons planning to attend should check with the Cognizant ACRS staff if such rescheduling would result in major inconvenience.

Further information regarding topics to be discussed, whether the meeting has been canceled or rescheduled, as well as the Chairman's ruling on requests for the opportunity to present oral statements and the time allotted therefor can be obtained by contacting Mr. Sam Duraiswamy, Cognizant ACRS staff (301-415-7364), between 7:30 a.m. and 4 p.m., (ET). ACRS meeting agenda, meeting transcripts, and letter reports are available through the NRC Public Document Room at pdr@nrc.gov, or by calling the PDR at 1-800-397-4209, or from the Publicly Available Records System (PARS) component of NRC's document system (ADAMS) which is accessible from the NRC Web site at http://www.nrc.gov/reading-rm/adams.html or http://www.nrc.gov/reading-rm/doc-collections. (ACRS & ACNW Mtg schedules/agendas).

Videoteleconferencing service is available for observing open sessions of ACRS meetings. Those wishing to use this service for observing ACRS meetings should contact Mr. Theron Brown, ACRS Audio Visual Technician (301-415-8066), between 7:30 a.m. and 3:45 p.m., (ET), at least 10 days before the meeting to ensure the availability of this service. Individuals or organizations requesting this service will be responsible for telephone line charges and for providing the equipment and facilities that they use to establish the videoteleconferencing link. The availability of videoteleconferencing services is not guaranteed.

Dated: September 15, 2006.
Annette L. Vietti-Cook,
Secretary of the Commission.

[FR Doc. 06-7892 Filed 9-20-06; 8:45 am]

BILLING CODE 7590-01-P